DEPARTMENT OF ENERGY

Federal Energy Regulatory Commission

[Project No. 2281-011]

Pacific Gas and Electric Company; Notice of Application Tendered for Filing With the Commission, Soliciting Additional Study Requests, and Establishing Procedural Schedule for Relicensing and a Deadline for Submission of Final Amendments

April 10, 2007.

Take notice that the following transmission line only project application has been filed with the Commission and is available for public inspection.

a. Type of Application: New License for Transmission Line Only Project.

b. Project No: P-2281-011.

c. Date Filed: March 30, 2007.

d. Applicant: Pacific Gas and Electric Company.

e. Name of Project: Woodleaf-Kanaka Junction Transmission Line Project.

f. Location: The project is located in Butte County California, within the South Fork Feather River watershed. The project is not located within any designated cities, towns, subdivisions or Indian reservations. The project is located about 15 miles east of Oroville, California. The project affects 31.79 acres of federal lands that is administered by the Plumas National Forest.

g. Filed Pursuant to: Federal Power Act 16 U.S.C. 791(a)-825(r).

h. Applicant Contact: Forrest Sullivan, Senior Project Manger, Pacific Gas & Electric Company, 5555 Florin-Perkins Road, Building 500, Sacramento, CA 95826. Tel: (916) 386-5580.

i. FERC Contact: John Mudre, (202) 502-8902, or john.mudre@ferc.gov.

j. Cooperating Agencies: We are asking Federal, state, local, and tribal agencies with jurisdiction and/or special expertise with respect to environmental issues to cooperate with us in the preparation of the environmental document. Agencies who would like to request cooperating status should follow the instructions for filing such requests described in item l below. Cooperating agencies should note the Commission's policy that agencies that cooperate in the preparation of the environmental document cannot also intervene. See, 94 FERC ¶ 61,076 (2001).

k. Study Request: Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for Filing Requests for Cooperating Agency Status and Additional Study Requests: May 29, 2007.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov) under the “e-Filing” link.

m. Status: This application has not been accepted for filing and is not ready for environmental analysis. We are not soliciting motions to intervene, protests, or final terms and conditions at this time.

n. Project Description: The Woodleaf-Kanaka Junction Transmission Line Project is a transmission line only project that transmits electricity 6.2 miles from the Woodleaf Powerhouse (owned and operated by the South Feather Water and Power Agency under FERC Project No. 2088) to the Kanaka Junction. The Project also includes a 0.02-mile long tap line extending to Forbestown Powerhouse (also under FERC Project No. 2088). The Woodleaf-Kanaka Junction Transmission Line is composed of a single-circuit, 115-kV transmission line, supported primarily on wood-pole, H-frame towers within a 75-foot wide right-of-way. The project is linked to the Licensee's Sly Creek Transmission Line (FERC License No. 4851), via the Woodleaf Powerhouse Switchyard, a component of FERC Project No. 2088.

o. Application Availability: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via email of new filings and issuances related to this or other pending projects. For assistance, contact FERC Online Support.

p. Consultation: With this notice, we are initiating consultation with the California State Historic Preservation Officer (SHPO), as required by § 106, National Historic Preservation Act, and the regulations of the Advisory Council on Historic Preservation, 36, CFR, at § 800.4.

q. Procedural Schedule and Final Amendments: The application will be processed according to the following Transmission Line Licensing Schedule. Revisions to the schedule will be made as appropriate.

Issue Deficiency or Acceptance letter: May 2007.

Issue Scoping Document for comments: June 2007.

Hold Scoping Meetings/Site Visit: June 2007.

Request Additional Information, if needed: July 2007.

Notice of application ready for environmental analysis: August 2007

Notice of the availability of the EA: February 2008.

Final amendments to the application must be filed with the Commission no later than 30 days from the issuance date of the notice of ready for environmental analysis.

Kimberly D. Bose,
Secretary.

[FR Doc. E7-7160 Filed 4-13-07; 8:45 am]

BILLING CODE 6717-01-P